DEPARTMENT OF ENERGY

Sponsorship and Support for the 2001 American Solar Challenge

AGENCY: Golden Field Office, Department of Energy (DOE).

ACTION: Notice of sponsorship and support for the 2001 American Solar Challenge.

SUMMARY: The U.S. Department of Energy (DOE) is announcing its intention to sponsor the 2001 American Solar Challenge, a solar-powered car race across the United States. DOE will support the American Solar Challenge by providing funding to New Resources Group, the race organizer, to support the planning, management, and conduct of the race. DOE will also conduct public outreach and community relations before and during the race. Parties interested in co-sponsoring or supporting the American Solar Challenge should contact Dan Eberle, organizer, at Formula Sun, P.O. Box 30, Freeman, MO 64746, 1-800-840-5511 or deberle@formulasun.org.

DATES: The American Solar Challenge will be held July 15, 2001 through July 25, 2001.

FOR FURTHER INFORMATION CONTACT: Ruth E. Adams, Contracting Officer, at 303-275-4722, e-mail ruth_adams@nrel.gov.

ADDRESSES: Copies of this Announcement, can be obtained from the Golden Field Office Home page at http://www.eren.doe.gov/golden/solicitations.html. Details on the American Solar Challenge can be obtained at http:/www.formulasun.org/ascindex.html.

Supplementary Information: Under this Announcement, DOE is announcing its intention to sponsor the 2001 American Solar Challenge (ASC). The ASC is a biennial, competition to design, build and race solar-powered cars. The ten-day, cross-country event will be held from July 15, 2001 through July 25, 2001 and follow the historic Route 66, beginning in Chicago, Illinois and ending near Los Angeles, CA. Historically, solar car racing in the U.S. has featured exclusively North American post secondary (college and university) teams. However, the ASC has opened entry to schools, companies, universities, clubs and individuals worldwide. The American Solar Challenge will pit cars powered only by the sun's energy against each other in a competition that only the brightest, most creative and best organized team can be expected to win. At almost 2300 miles, it will be the longest solar car race in the world. Since it follows the old Route 66 and coincides with the 75th anniversary of that famous road, it will be a highly visible event and provide a dramatic, high technology, futuristic contrast to the nostalgic events surrounding the anniversary. In the past, sponsors of solar car races, both domestic and international, have received significant amounts of very positive publicity that has enhanced the sponsors' public image. This race has the potential to be the most visible solar car race ever. The mission of the American Solar Challenge is to promote and celebrate educational excellence and engineering creativity and champion the creative integration of technical and scientific expertise across a range of exciting disciplines. The mission includes the promotion of: (1) Renewable energies, specifically photovoltaics; (2) educational and engineering excellence; (3) environmental consciousness; and (4) public education and awareness of the potential of emerging technologies.

Through sponsorship, DOE intends to support and encourage bright minds to succeed in the fields of engineering, sciences, mathematics, and multi-disciplined learning and to support public awareness and enthusiasm, both for educational excellence and for the technologies that emerge. DOE's funding support is expected to be $400,000 for the planning, management, and conduct of the race. DOE will also conduct public outreach and community relations before and during the race. In addition to DOE's support, New Resources Group is seeking co-sponsorship and support for the solar-powered car race. Parties interested in co-sponsoring or supporting the American Solar Challenge, either financially or through donations, should contact Dan Eberle, President of New Resources Group and race organizer, at Formula Sun, P.O. Box 30, Freeman, MO 64746, 1-800-840-5511 or deberle@formulasun.org. Parties interested in providing support to participating teams should contact the teams directly. A list of participating teams can be obtained from www.formulasun.org or contacting Dan Eberle at deberle@formulasun.org or by calling 1-877-840-5511 or 1-800-606-8881. Race regulations and route information for the American Solar Challenge can be obtained through http:/www.formulasun.org/ascindex.html. For information on previous solar car races, access http:/www.sunrayce.com/sunrayce/.

Issued in Golden, Colorado, on August 16, 2000.
Jerry L. Zimmer,
Procurement Director, in care of Golden Field Office.

[FR Doc. 00-21504 Filed 8-22-00; 8:45 am]

BILLING CODE 6450-01-P